NUCLEAR REGULATORY COMMISSION

[Docket No. 40-3392]

Notice of Availability of Environmental Assessment and Finding of No Significant Impact for Renewal of the Operating License for the Honeywell Metropolis Works Uranium Conversion Facility in Metropolis, IL

AGENCY: Nuclear Regulatory Commission.

ACTION: Notice of availability.

FOR FURTHER INFORMATION CONTACT: Michael G. Raddatz, Project Manager, Fuel Cycle Facilities Branch, Division of Fuel Cycle Safety and Safeguards, Office of Nuclear Material Safety and Safeguards, U.S. Nuclear Regulatory Commission, Washington, DC 20555. Telephone: (301) 415-6334; fax number: (301) 415-5955; e-mail: mgr@nrc.gov.

SUPPLEMENTARY INFORMATION:

I. Introduction

The U.S. Nuclear Regulatory Commission (NRC) proposes to issue a license amendment to Source Materials License No. SUB-526, held by Honeywell International, Inc. (Honeywell), to approve the renewal of its operating license to operate a Uranium Conversion Facility at the Metropolis Works Uranium Conversion Facility (MTW) in Metropolis, Illinois. The NRC has prepared an Environmental Assessment (EA) in support of this amendment in accordance with the requirements of 10 CFR Part 51. Based on the EA, the NRC has concluded that a Finding of No Significant Impact (FONSI) is appropriate. The amendment will be issued following the publication of this Notice.

II. EA Summary

By letter dated May 27, 2005, Honeywell submitted an application to renew the Source Materials License, SUB-526, for the MTW uranium hexafluoride (UF6) facility near Metropolis, Illinois, for a period of 10 years. At the MTW facility, uranium conversion services have been performed for the commercial nuclear power industry since it was originally licensed by the U.S. Atomic Energy Commission in 1958. The current license was issued by NRC in June 1995 for a 10-year period. The original licensee, AlliedSignal, Inc., has merged with Honeywell, since the time of the last renewal, and the facility's license has been transferred to Honeywell.

NRC staff has prepared this EA pursuant to Council on Environmental Quality regulations (40 CFR Parts 1500-1508), NRC regulations (10 CFR Part 51) which implement the requirements of the National Environmental Policy Act of 1969, and applicable guidance from NUREG-1748, Environmental Review Guidance for Licensing Actions Associated with Nuclear Material Safety and Safeguards Programs. The purpose of this EA is to assess the environmental impacts (radiological and non-radiological) of the proposed license renewal for this facility. The format and methodology employed for this EA are consistent with those for the EA that assessed the last license renewal for this facility in 1995; this assessment reflects regulatory changes and operational and environmental experience obtained during the most recent 10 years of facility operation.

The environmental impacts of the proposed action have been evaluated in accordance with the requirements presented in 10 CFR Part 51. NRC staff has determined that the renewal of license SUB-526 allowing continued Honeywell operations at the MTW facility will not have a significant impact on the human environment.

III. Finding of No Significant Impact

On the basis of the EA, NRC has concluded that there are no significant environmental impacts from the proposed amendment and NRC staff has determined not to prepare an environmental impact statement.

IV. Further Information

Documents related to this action, including the application for the renewal and supporting documentation, are available electronically at NRC's Electronic Reading Room at http://www.nrc.gov/reading-rm/adams.html. From this site, you can access NRC's Agencywide Documents Access and Management System (ADAMS), which provides text and image files of NRC's public documents. The ADAMS accession numbers for the documents related to this notice are as follows:

Document | ADAMS accession No. | Date
Final Environmental Assessment for Renewal of NRC License No. SUB-526 for the Honeywell Specialty Materials Metropolis Work Facility | ML061780260 | June 30, 2006.
Notification for Exceeding Nearest Resident Concentration, License No.: SUB-526, Docket No.: 40-03392. Letter to U.S. Nuclear Regulatory Commission Document Control Desk. Metropolis, Illinois: Honeywell Specialty Chemicals | ML012000117 | July 13, 2001.
30-day written report to NRC per license requirement for exceeding effluent administration limit associated with the UF6 release on 12-22-03. Letter to U.S. Nuclear Regulatory Commission Document Control Desk | ML040260290 | January 20, 2004.
Renewal of U.S. NRC Source Materials License. Letter (May 27) to Michael Raddatz, NRC, Office of Nuclear Material Safety and Safeguards | ML052310382 | May 27, 2005.
Environmental Report, Renewal of Source Material License SUB-526, Docket 40-3392, for HONEYWELL SPECIALTY MATERIALS, Metropolis Works (MTW) Metropolis, Illinois | ML052310401 | May 25, 2005.
Honeywell Metropolis Works Safety Demonstration Report for Source Material License SUB-526. Metropolis, Illinois: Honeywell Specialty Materials | ML052310387 | May 27, 2005.
Response to requests for additional information for the Honeywell Metropolis Works license renewal application. Letter to Mr. Michael G. Raddatz, NRC, Office of Nuclear Material Safety and Safeguards | ML060530490 | May 27, 2005.
Response to requests for additional information for the Honeywell Metropolis Works license renewal application and environmental report. Letter to Mr. Michael G. Raddatz, NRC, Office of Nuclear Material Safety and Safeguards | ML060530491 | Oct. 21, 2005.
Provides additional information requested during NRC site visit to the Honeywell Metropolis Works facility in support of the license renewal environmental review. Letter to Mr. Michael G. Raddatz, NRC, Office of Nuclear Material Safety and Safeguards | ML060540413 | Jan. 15, 2006.
Provides additional information required to complete review of radiological dose assessment. E-mail from J. Tortorelli to Michael Raddatz, NRC, Office of Nuclear Material Safety and Safeguards | ML060970153 | Mar. 28, 2006.
IEMA (Illinois Emergency Management Agency), 2006. Documents completion of review of the draft Honeywell Environmental Assessment. Letter to Ms. B. Jennifer Davis, NRC. Springfield, Illinois | ML061780124 | June 13, 2006.
NUREG-1748, “Environmental Review Guidance for Licensing Actions Associated With NMSS Programs—Final Report,” Nuclear Regulatory Commission, Washington, DC | ML031000403 | April 10, 2003.

If you do not have access to ADAMS, or if there are problems in accessing the documents located in ADAMS, contact the NRC's Public Document Room (PDR) Reference staff at 1-800-397-4209, 301-415-4737, or by e-mail to pdr@nrc.gov.

These documents may also be viewed electronically on the public computers located at the NRC's PDR, O1 F21, One White Flint North, 11555 Rockville Pike, Rockville, MD 20852. The PDR reproduction contractor will copy documents for a fee.

Dated at Rockville, Maryland, this 4th day of August, 2006.
For the Nuclear Regulatory Commission.
Gary S. Janosko,
Chief Fuel Cycle Facilities Branch, Division of Fuel Cycle Safety and Safeguards, Office of Nuclear Material Safety and Safeguards.

[FR Doc. E6-13110 Filed 8-9-06; 8:45 am]

BILLING CODE 7590-01-P